ENVIRONMENTAL PROTECTION AGENCY

[FRL-6955-6]

Accidental Release Prevention Requirements; Risk Management Programs Under the Clean Air Act Section 112(r)(7); Distribution of Off-Site Consequence Analysis Information; Development of Read-Only Information Technology System and Qualified Researcher System

AGENCY: Environmental Protection Agency.

ACTION: Withdrawal of notice.

SUMMARY: The Environmental Protection Agency (EPA) is withdrawing a notice of January 17, 2001 (66 FR 4021) describing draft plans for providing additional access to information about the potential off-site consequences of accidental chemical releases from industrial facilities. As part of the Administration's review of recent federal agency actions, we are evaluating the draft plans. When we have completed our review, we will make our plans for providing additional access available for public review.

FOR FURTHER INFORMATION CONTACT: Dorothy McManus, Program Analyst, (202) 564-8606, or Vanessa Rodriguez, Chemical Engineer, (202) 564-7913, Chemical Emergency Preparedness and Prevention Office, Environmental Protection Agency (5104), 1200 Pennsylvania Avenue, NW., Washington, DC 20460.

SUPPLEMENTARY INFORMATION: Off-site consequence analysis (OCA) information is submitted to EPA by facilities subject to the Chemical Accident Prevention Regulations at 40 CFR part 68. Under the Chemical Safety Information, Site Security and Fuels Regulatory Relief Act (CSISSFRRA) of 1999, EPA and the Department of Justice (DOJ) last year promulgated a rule making OCA information available to the public in specified ways (see 40 CFR part 1400). CSISSFRRA calls on EPA, in consultation with DOJ, to supplement the access provided by the rule. We are now in the process of reviewing the draft plans. When we have completed our review, we will make our plans for providing additional access available for public review.

Dated: March 13, 2001.
Michael H. Shapiro,
Acting Assistant Administrator for Solid Waste and Emergency Response.

[FR Doc. 01-6679 Filed 3-15-01; 8:45 am]

BILLING CODE 6560-50-U